DEPARTMENT OF DEFENSE

Office of the Secretary

TRICARE, Formerly Known as the Civilian Health and Medical Program of the Uniformed Services (CHAMPUS); Fiscal Year 2011 Mental Health Rate Updates

AGENCY: Department of Defense.

ACTION: Notice of Updated Mental Health Rates for Fiscal Year 2011.

SUMMARY: This notice provides the updated regional per-diem rates for low-volume mental health providers; the update factor for hospital-specific per-diems; the updated cap per-diem for high-volume providers; the beneficiary per-diem cost-share amount for low-volume providers; and, the updated per-diem rates for both full-day and half-day TRICARE Partial Hospitalization Programs for Fiscal Year 2011.

DATES: Effective Date: The Fiscal Year 2011 rates contained in this notice are effective for services on or after October 1, 2010.

ADDRESSES: TRICARE Management Activity (TMA), Medical Benefits and Reimbursement Branch, 16401 East Centretech Parkway, Aurora, CO 80011-9066.

FOR FURTHER INFORMATION CONTACT: Ann N. Fazzini, Medical Benefits and Reimbursement Branch, TMA, telephone (303) 676-3803.

SUPPLEMENTARY INFORMATION: The final rule published in the Federal Register (FR) on September 6, 1988 (53 FR 34285) set forth reimbursement changes that were effective for all inpatient hospital admissions in psychiatric hospitals and exempt psychiatric units occurring on or after January 1, 1989. The final rule published in the Federal Register on July 1, 1993 (58 FR 35-400) set forth maximum per-diem rates for all partial hospitalization admissions on or after September 29, 1993. Included in these final rules were provisions for updating reimbursement rates for each federal Fiscal Year. As stated in the final rules, each per-diem shall be updated by the Medicare update factor for hospitals and units exempt from the Medicare Prospective Payment System (i.e., this is the same update factor used for the inpatient prospective payment system). For Fiscal Year 2011, the market basket rate is 2.6 percent. This year, Medicare applied two reductions to their market basket amount: (1) a 0.25 percent reduction due to provisions found in the Patient Protection and Affordable Care Act, and (2) a 2.9 percent reduction for documentation and coding adjustments found in Public Law 110-90. These two reductions do not apply to TRICARE. Hospitals and units with hospital specific rates (hospitals and units with high TRICARE volume) and regional specific rates for psychiatric hospitals and units with low TRICARE volume will have their TRICARE rates for Fiscal Year 2011 updated by 2.6 percent.

Partial hospitalization rates for full-day and half-day programs will also be updated by 2.6 percent for Fiscal Year 2011.

The cap amount for high-volume hospitals and units will also be updated by the 2.6 percent for Fiscal Year 2011.

The beneficiary cost share for low volume hospitals and units will also be updated by the 2.6 percent for Fiscal Year 2011.

Per 32 Code of Federal Regulations (CFR) 199.14, the same area wage indexes used for the CHAMPUS Diagnosis-Related Group (DRG)-based payment system shall be applied to the wage portion of the applicable regional per-diem for each day of the admission. The wage portion shall be the same as that used for the CHAMPUS DRG-based payment system. For wage index values greater than 1.0, the wage portion of the regional rate subject to the area wage adjustment is 68.8 percent for Fiscal Year 2011. For wage index values less than or equal to 1.0, the wage portion of the regional rate subject to the area wage adjustment is 62 percent.

Additionally, 32 CFR 199.14, requires that hospital specific and regional per-diems shall be updated by the Medicare update factor for hospitals and units exempt from the Medicare prospective payment system.

The following reflect an update of 2.6 percent for Fiscal Year 2011.

Regional Specific Rates for Psychiatric Hospitals and Units With Low Tricare Volume for Fiscal Year 2011
United States census region | Regional rate
Northeast:
New England | $764
Mid-Atlantic | 736
Midwest:
East North Central | 636
West North Central | 600
South:
South Atlantic | 757
East South Central | 810
West South Central | 690
West:
Mountain | 689
Pacific | 814
Puerto Rico | 519

Beneficiary cost-share: Beneficiary cost-share (other than dependents of Active Duty members) for care paid on the basis of a regional per-diem rate is the lower of $202 per day or 25 percent of the hospital billed charges effective for services rendered on or after October 1, 2010. Cap Amount: Updated cap amount for hospitals and units with high TRICARE volume is $960 per day for services on or after October 1, 2010.

The following reflect an update of 2.6 percent for Fiscal Year 2011 for the partial hospitalization rates.

Partial Hospitalization Rates for Full-Day and Half-Day Programs
[Fiscal year 2011]
United States census region | Full-day rate (6 hours or more) | Half-day rate (3-5 hours)
Northeast:
New England (Maine, N.H., Vt., Mass., R.I., Conn.) | $306 | $227
Mid-Atlantic:
(N.Y., N.J., Penn.) | 333 | 250
Midwest:
East North Central (Ohio, Ind., Ill., Mich., Wis.) | 293 | 218
West North Central:
(Minn., Iowa, Mo., N.D., S.D., Neb., Kan.) | 293 | 218
South:
South Atlantic (Del., Md., D.C., Va., W.Va., N.C., S.C., Ga., Fla.) | 314 | 237
East South Central:
(Ky., Tenn., Ala., Miss.) | 340 | 256
West South Central:
(Ark., La., Texas, Okla.) | $340 | 256
West:
Mountain (Mon., Idaho, Wyo., Col., N.M., Ariz., Utah, Nev.) | 343 | 259
Pacific (Wash., Ore., Calif., Alaska, Hawaii) | 337 | 252
Puerto Rico | 218 | 165

The above rates are effective for services rendered on or after October 1, 2010.

Dated: March 1, 2011.
Morgan F. Park,
Alternate OSD Federal Register Liaison Officer, Department of Defense.

[FR Doc. 2011-4866 Filed 3-3-11; 8:45 am]

BILLING CODE 5001-06-P